DEPARTMENT OF HEALTH AND HUMAN SERVICES

National Institutes of Health

Office of The Director, National Institutes of Health; Notice of Meeting

Pursuant to section 10(a) of the Federal Advisory Committee Act, as amended, notice is hereby given of a meeting of the Novel and Exceptional Technology and Research Advisory Committee.

The meeting will be open to the public, with attendance limited to space available. Individuals who plan to attend and need special assistance, such as sign language interpretation or other reasonable accommodations, should notify the Contact Person listed below in advance of the meeting. The meetings will also be videocast and can be accessed from the NIH Videocasting and Podcasting website (http://videocast.nih.gov/).

Name of Committee: Novel and Exceptional Technology and Research Advisory Committee.

Date: December 5, 2019.

Time: 11:00 a.m. to 5:15 p.m.

Agenda: The Novel and Exceptional Technology and Research Advisory Committee (NExTRAC) will discuss (1) pathways for responsible innovation in emerging biotechnologies; (2) characteristics of emerging biotechnologies, including presentations on horizon scanning, gene editing in the clinic, gene drives, neurotechnology, artificial intelligence, and synthetic biology; and (3) proactively addressing scientific and societal implications of emerging biotechnologies. In addition, charge(s) to the committee will be presented.

Place: National Institutes of Health, Building 35A, Room 620/630, 9000 Rockville Pike, Bethesda, MD 20892.

Name of Committee: Novel and Exceptional Technology and Research Advisory Committee.

Date: December 6, 2019.

Time: 9:00 a.m. to 2:45 p.m.

Agenda: The Novel and Exceptional Technology and Research Advisory Committee (NExTRAC) will discuss (1) pathways for responsible innovation in emerging biotechnologies; (2) characteristics of emerging biotechnologies, including presentations on horizon scanning, gene editing in the clinic, gene drives, neurotechnology, artificial intelligence, and synthetic biology; and (3) proactively addressing scientific and societal implications of emerging biotechnologies. In addition, charge(s) to the committee will be presented.

Place: National Institutes of Health, Building 35A, Room 620/630, 9000 Rockville Pike, Bethesda, MD 20892.

Contact Person: Shayla Beckham, Management Program Analyst, Office of Science Policy, National Institutes of Health, 6705 Rockledge Drive, Room 750, Bethesda, MD 20892-9606, 301-496-9838, shayla.beckham@nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel and airport shuttles will be inspected before being allowed on campus. Visitors will be asked to show one form of identification (for example, a government-issued photo ID, driver's license, or passport) and to state the purpose of their visit.

Information is also available on the NExTRAC web page: https://osp.od.nih.gov/biotechnology/novel-exceptional-technology-research-advisory-committee/, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: November 7, 2019.
Ronald J. Livingston, Jr.,
Program Analyst, Office of Federal Advisory Committee Policy.

[FR Doc. 2019-24673 Filed 11-13-19; 8:45 am]

BILLING CODE 4140-01-P